DEPARTMENT OF HOMELAND SECURITY

Federal Emergency Management Agency

[Docket ID: FEMA-2024-0015; OMB No. 1660-0137]

Agency Information Collection Activities: Proposed Collection; Comment Request; Emergency Notification System (ENS)

AGENCY: Federal Emergency Management Agency, Department of Homeland Security.

ACTION: 60-Day notice of extension and request for comments.

SUMMARY: The Federal Emergency Management Agency (FEMA), as part of its continuing effort to reduce paperwork and respondent burden, invites the general public to take this opportunity to comment on a revision of a currently approved information collection. In accordance with the Paperwork Reduction Act of 1995, this notice seeks comments concerning the Emergency Notification System (ENS).

DATES: Comments must be submitted on or before June 10, 2024.

ADDRESSES: To avoid duplicate submissions to the docket, please submit comments at http://www.regulations.gov under Docket ID FEMA-2024-0015. Follow the instructions for submitting comments.

All submissions received must include the agency name and Docket ID and will be posted, without change, to the Federal eRulemaking Portal at http://www.regulations.gov, and will include any personal information you provide. Therefore, submitting this information makes it public. You may wish to read the Privacy and Security Notice that is available via a link on the homepage of http://www.regulations.gov.

FOR FURTHER INFORMATION CONTACT: Anthony Allen, ENS System Security Officer/IT Technician, FEMA/ORR, by email at Anthony.Allen@fema.dhs.gov or telephone at 540-326-2645. You may contact the Records Management Division for copies of the proposed collection of information at email address: FEMA-Information-Collections-Management@fema.dhs.gov.

SUPPLEMENTARY INFORMATION: FEMA's Office of Response & Recovery (ORR) owns and operates the Emergency Notification System (ENS). FEMA Directive 262-3 designates ENS as the Agency's solution for all notification and alerts activities. The ENS sends electronic notifications and relays messages, whether critical in nature, routine, or for testing purposes with appropriate authorization, to Department of Homeland Security (DHS) employees and contractors, as well as emergency response personnel. In accordance with Executive Order 12656, Presidential Policy Directive 40, and Federal Continuity Directive-1, all DHS organizational components must have in place a viable Continuity of Operations Planning capability and plan that ensures the performance of their essential functions during any emergency or situation that could disrupt normal operations. An effective ENS solution is a critical part of this plan.

Collection of Information

Title: Emergency Notification System (ENS).

Type of Information Collection: Extension of a currently approved information collection.

OMB Number: 1660-0137.

FEMA Forms: FF-104-FY-24-100, Emergency Notification System (ENS).

Abstract: The Emergency Notification System (ENS) has been deemed the standard notification tool for FEMA. The purpose of this notification tool is to activate teams and disseminate information. The respondents to this information are Mobile Operation Centers and Regions that use this information to make decisions on how to meet operational missions. This revision includes a new form for data gathering, which includes the Privacy Act Statement, Paperwork Reduction Act, and Retention Period information for members of the public that receive ENS Notifications.

Affected Public: State, Local or Tribal Governments; Federal Government.

Estimated Number of Respondents: 700.

Estimated Number of Responses: 2,200.

Estimated Total Annual Burden Hours: 184.

Estimated Total Annual Respondent Cost: $7,670.

Estimated Respondents' Operation and Maintenance Costs: $0.

Estimated Respondents' Capital and Start-Up Costs: $0.

Estimated Total Annual Cost to the Federal Government: $214,836.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-07486 Filed 4-8-24; 8:45 am]

BILLING CODE 9111-24-P